DEPARTMENT OF HOMELAND SECURITY

Federal Emergency Management Agency

[Docket ID FEMA-2023-0002; Internal Agency Docket No. FEMA-B-2380]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before February 7, 2024.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2380, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

Community | Community map repository address
Eddy County, North Dakota and Incorporated Areas
Project: 23-08-0013S Preliminary Date: June 30, 2023
City of New Rockford | City Hall, 117 1st Street South, New Rockford, ND 58356.
Unincorporated Areas of Eddy County | Eddy County Courthouse, 524 Central Avenue, New Rockford, ND 58356.
Foster County, North Dakota and Incorporated Areas
Project: 23-08-0014S Preliminary Date: June 30, 2023
City of Grace City | Auditor's Office, 391 George Street, Grace City, ND 58445.
Unincorporated Areas of Foster County | Foster County Courthouse, 1000 5th Street N, Carrington, ND 58421.
Wells County, North Dakota and Incorporated Areas
Project: 23-08-0015S Preliminary Date: June 30, 2023
City of Fessenden | City Hall, 602 Railway Street S, Fessenden, ND 58438.
City of Hamberg | City Hall, 323 Highway 30, Hamberg, ND 58341.
City of Harvey | City Hall, 120 West 8th Street, Harvey, ND 58341.
Unincorporated Areas of Wells County | Wells County Courthouse, 700 Railway Street N, #37, Fessenden, ND 58438.
McCook County, South Dakota and Incorporated Areas
Project: 18-08-0045S Preliminary Date: May 26, 2023
City of Bridgewater | Main Street Plaza, 232 North Main Avenue, Bridgewater, SD 57319.
City of Montrose | City Hall, 100 West Main Street, Montrose, SD 57048.
City of Salem | City Hall, 400 North Main Street, Salem, SD 57058.
Town of Spencer | City Hall, 306 Main Street, Spencer, SD 57374.
Unincorporated Areas of McCook County | McCook County Auditor's Office, 130 West Essex Avenue, Salem, SD 57058.
Spink County, South Dakota and Incorporated Areas
Project: 18-08-0010S Preliminary Date: April 14, 2023
City of Ashton | City Hall, 14 Main Street, Ashton, SD 57424.
City of Conde | City Hall, 343 Broadway Street, Conde, SD 57434.
City of Doland | City Hall, 106 North 2nd Street, Doland, SD 57436.
City of Frankfort | City Hall, 404 Maple Street, Frankfort, SD 57440.
City of Redfield | City Hall, 626 Main Street, Redfield, SD 57469.
Town of Northville | Town Hall, 402 Thayer Street, Northville, SD 57465.
Town of Tulare | Community Hall, 112 Main Street, Tulare, SD 57476.
Town of Turton | Farmers State Bank, 123 East Center Street, Turton, SD 57477.
Unincorporated Areas of Spink County | Spink County Courthouse, 210 East 7th Avenue, Redfield, SD 57469.

[FR Doc. 2023-24800 Filed 11-8-23; 8:45 am]

BILLING CODE 9110-12-P